DEPARTMENT OF TRANSPORTATION

Federal Highway Administration

Environmental Impact Statement: Lexington and Richland Counties, South Carolina; Notice of Intent

AGENCY: Federal Highway Administration (FHWA), DOT.

ACTION: Notice of intent.

SUMMARY: The FHWA is issuing this notice to advise the public that an environmental impact statement will be prepared for a proposed highway project in Lexington and Richland counties, South Carolina.

FOR FURTHER INFORMATION CONTACT: Emily O. Lawton, Division Administrator, Federal Highway Administration, Strom Thurmond Federal Building, 1835 Assembly Street, Suite 1270, Columbia, South Carolina 29201, Telephone: (803) 765-5411, Email: emily.lawton@dot.gov.

SUPPLEMENTARY INFORMATION: The FHWA, in cooperation with the South Carolina Department of Transportation (SCDOT), will prepare an environmental impact statement (EIS) on a proposal to improve the I-20/I-26/I-126 Corridor located in Lexington and Richland counties, South Carolina. To date, the project area has been defined as a mainline corridor including I-20 from the Saluda River to the Broad River, I-26 from US 378 to Broad River Road, and I-126 from Colonial Life Boulevard to I-26.

The I-20/I-26/I-126 corridor is a vital link in South Carolina, serving residents, commuters, travelers, and commerce. Due to nearby residential and commercial development, proximity to downtown Columbia, traffic volumes, and the overall geometric layout, including 12 interchange points, the I-20/I-26/I-126 corridor has become one of the most congested interstate sections in South Carolina. Improvements to the corridor are considered necessary to provide for the existing and projected traffic demand and to address the existing and projected future congestion. In order to address the existing and anticipated traffic volumes, SCDOT is developing an EIS that will promote informed decision making in the development of a solution to reduce congestion, improve traffic operations, increase safety and increase capacity.

The FHWA and SCDOT are seeking input as part of the scoping process to assist in identifying issues relative to this project and potential solutions. Letters describing the proposed action and soliciting comments will be sent to appropriate Federal, State, and local agencies, and to private organizations and citizens who have previously expressed an interest in this proposal. Formal public scoping meetings will be held in Lexington and Richland counties. In addition, public information meetings will be held as the project is developed, and a public hearing will be conducted after the approval of the draft EIS. Public notice will be given of the time and place of the meetings and hearing. The draft EIS will be available for public and agency review and comment prior to the public hearing.

To ensure that the full range of issues related to this proposed action are addressed and all significant issues identified, comments, and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)

Dated: July 7, 2015.
Robert D. Thomas, II,
Assistant Division Administrator, Columbia, South Carolina.

[FR Doc. 2015-17020 Filed 7-23-15; 8:45 am]

BILLING CODE 4910-22-P